DEPARTMENT OF DEFENSE

Department of the Air Force

[Docket ID: USAF-2010-0013]

Privacy Act of 1974; System of Records

AGENCY: Department of the Air Force, DoD.

ACTION: Notice to alter a system of records.

SUMMARY: The Department of the Air Force is proposing to alter a system of records notice in its existing inventory of records systems subject to the Privacy Act of 1974 (5 U.S.C. 552a), as amended.

DATES: The proposed action will be effective on June 1, 2010 unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, 703-696-6488.

SUPPLEMENTARY INFORMATION: The Department of the Air Force systems of records notices subject to the Privacy Act of 1974 (5 U.S.C. 552a), as amended, have been published in the Federal Register and are available from the Department of the Air Force Privacy Office, Air Force Privacy Act Office, Office of Warfighting Integration and Chief Information Officer, ATTN: SAF/XCPPI, 1800 Air Force Pentagon, Washington, DC 20330-1800.

The proposed systems reports, as required by 5 U.S.C. 552a(r) of the Privacy Act, were submitted on April 16, 2010, to the House Committee on Oversight and Government Reform, the Senate Committee on Homeland Security and Governmental Affairs, and the Office of Management and Budget pursuant to paragraph 4c of Appendix I to Office of Management and Budget Circular No. A-130, “Federal Agency Responsibilities for Maintaining Records About Individuals,” dated February 8, 1996 (February 20, 1996; 61 FR 6427).

Dated: April 26, 2010.
Mitchell S. Bryman,
Alternate OSD Federal Register Liaison Officer, Department of Defense.

F036 AF PC U

System name:

Air Force Automated Education Management System (AFAEMS) (January 28, 2002; 67 FR 3884)

Changes:

* * * * *

System location:

Delete entry and replace with “Headquarters United States Air Force, Directorate of Personnel Force Development, 1040 Air Force Pentagon, Washington, DC 20330-1040;

Office of the Secretary of Defense, Personnel and Readiness, Military Family and Community Programs, 1560 Wilson Boulevard, Ste 1200, Arlington VA 22209-2463.”

Categories of individuals covered by the system:

Delete entry and replace with “All officers, airmen and qualified DoD civilians who participate in the Education Services Program and the Tuition Assistance Program. All qualified spouses of military service members who participate in the Military Spouse Career Advancement Account Program (MSCAAP).”

Categories of records in the system:

Delete entry and replace with “Name, Social Security Number (SSN), document number; pertinent education data such as forms for Air Force, Active Duty Service Commitment; Notice of Student Withdrawal/Non-completion; Individual Record-Education Services Program; Academic Education Data; Authority for Tuition Assistance—Education Services Program; Authority for Financial Assistance—Military Spouse Career Advancement Account Program; Cash Collection for Voucher; Application for the Evaluation of Educational Experiences During Military Service; Pay Adjustment Authorization; Department of Veterans Affairs Application for Educational Assistance; Service person's Application for Educational Benefits; Academic evaluations and/or transcripts from schools; and Educational test results from testing agencies.”

Authority for maintenance of the system:

Delete entry and replace with “10 U.S.C. 8013, Secretary of the Air Force; Air Force Instruction 36-2306, Operation and Administration of the Air Force Education Services Program, Public Law: 110-417 and E.O. 9397 (SSN), as amended.”

Purpose(s):

Delete entry and replace with “Provides a record of education endeavors and progress of Air Force personnel and military spouses participating in education services and MSCAAP Programs; to manage the tuition assistance program and to track enrollments and funding.”

Routine uses of records maintained in the system, including categories of users and the purposes of such uses:

Delete entry and replace with “In addition to those disclosures generally permitted under 5 U.S.C. 552a(b) of the Privacy Act of 1974, these records contained therein may specifically be disclosed outside the DoD as a routine use pursuant to 5 U.S.C. 552a(b)(3) as follows:

To civilian schools for the purposes of ensuring correct enrollment and billing information.

The DoD `Blanket Routine Uses' published at the beginning of the Air Force's compilation of systems of records notices apply to this system.”

* * * * *

Retention and disposal:

Delete entry and replace with “Data stored digitally within the system is retained only for the period required to satisfy recurring processing requirements and/or historical requirements. Backup data files will be retained for a period not to exceed 45 days. Backup files are maintained only for system restoration and are not to be used to retrieve individual records. Computer records are destroyed by erasing, deleting or overwriting. Records are retained and disposed of in the following ways:

For records pertaining to the individual's education level and progress: Give to individual when released from EAD, discharged, or destroy when no longer on active duty in the MSCAAP program. For records pertaining to requests for tuition assistance, records supporting consolidation grade sheets, and cases of non-compliance or failure: Destroy after invoices have been paid and final grades have been recorded in Individual Record Education Services form.

For records pertaining to funding documents, appropriation controls, supporting documents for monitoring obligations: Destroy two years after document's fiscal year appropriation has ended its `expired year' status and applicable fiscal year appropriation has been cancelled.”

System manager(s) and address:

Delete entry and replace with “Chief, Voluntary Education Branch, Education Division, Directorate of Personnel Force Development, Headquarters United States Air Force (HQ USAF/A1DL), 1040 Air Force Pentagon, Washington, DC 20330-1040.”

Notification procedure:

Delete entry and replace with “Individuals seeking to determine whether information about themselves is contained in this system should address written inquiries to or visit the agency officials at the respective installation education center. Official mailing addresses are published as an appendix to the Air Force's compilation of systems of records notices.

Request must contain full name, Social Security Number (SSN), and current mailing address.”

Record access procedures:

Delete entry and replace with “Individuals seeking access to information about themselves contained in this system of records should address written inquiries to AF/A1DL, 1040 Air Force Pentagon, Washington, DC 20330-1040.

Request must contain full name, Social Security Number (SSN), and current mailing address.”

* * * * *

F036 AF PC U

System name:

Air Force Automated Education Management System (AFAEMS).

System location:

Headquarters United States Air Force, Directorate of Personnel Force Development, 1040 Air Force Pentagon, Washington, DC 20330-1040;

Office of the Secretary of Defense, Personnel and Readiness, Military Family and Community Programs, 1560 Wilson Boulevard, Ste. 1200, Arlington, VA 22209-2463.

Categories of individuals covered by the system:

All officers, airmen and qualified DoD Civilians who participate in the Education Services Program and the Tuition Assistance Program.

All qualified spouses of military service members who participate in the Military Spouse Career Advancement Account Program (MSCAAP).

Categories of records in the system:

Name, Social Security Number (SSN), document number; pertinent education data such as forms for Air Force, Active Duty Service Commitment; Notice of Student Withdrawal/Non-completion; Individual Record—Education Services Program; Academic Education Data; Authority for Tuition Assistance—Education Services Program; Authority for Financial Assistance—Military Spouse Career Advancement Account Program; Cash Collection for Voucher; Application for the Evaluation of Educational Experiences During Military Service; Pay Adjustment Authorization; Department of Veterans Affairs Application for Educational Assistance; Service person's Application for Educational Benefits; Academic evaluations and/or transcripts from schools; and Educational test results from testing agencies.

Authority for maintenance of the system:

10 U.S.C. 8013, Secretary of the Air Force; Air Force Instruction 36-2306, Operation and Administration of the Air Force Education Services Program; Public Law No.: 110-417, National Defense Authorization Act for Fiscal Year 2009; and E.O. 9397 (SSN), as amended.

Purpose(s):

Provides a record of education endeavors and progress of Air Force personnel and military spouses participating in education services and MSCAAP Programs; to manage the tuition assistance program and to track enrollments and funding.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

Records may be disclosed to civilian schools for the purposes of ensuring correct enrollment and billing information.

The DoD `Blanket Routine Uses' published at the beginning of the Air Force's compilation of systems of records notices apply to this system.

Policies and practices for storing, retrieving, accessing, retaining, and disposing of records in the system:

Storage:

Paper records and electronic storage media.

Retrievability:

Retrieved by name, Social Security Number (SSN), or document number.

Safeguards:

Records are accessed by custodian of the record system and by persons responsible for servicing the record system in performance of their official duties who are properly screened and cleared for need-to-know. Records are stored in locked cabinets or rooms, and in computer storage devices and protected by computer system software.

Retention and disposal:

Data stored digitally within the system is retained only for the period required to satisfy recurring processing requirements and/or historical requirements. Backup data files will be retained for a period not to exceed 45 days. Backup files are maintained only for system restoration and are not to be used to retrieve individual records. Computer records are destroyed by erasing, deleting or overwriting. Records are retained and disposed of in the following ways:

(1) For records pertaining to the individual's education level and progress: Give to individual when released from EAD, discharged, or destroy when no longer on active duty or active in the MSCAAP program. For records pertaining to requests for tuition assistance, records supporting consolidation grade sheets, and cases of non-compliance or failure: Destroy after invoices have been paid and final grades have been recorded in Individual Record Education Services form.

(2) For records pertaining to funding documents, appropriation controls, supporting documents for monitoring obligations: Destroy two years after document's fiscal year appropriation has ended its `expired year' status and applicable fiscal year appropriation has been cancelled.

System manager(s) and address:

Chief, Voluntary Education Branch, Education Division, Directorate of Personnel Force Development, Headquarters United States Air Force (HQ USAF/A1DL), 1040 Air Force Pentagon, Washington, DC 20330-1040.

Notification procedure:

Individuals seeking to determine whether information about themselves is contained in this system should address written inquiries to or visit the agency officials at the respective installation education center. Official mailing addresses are published as an appendix to the Air Force's compilation of systems of records notices.

Request must contain full name, Social Security Number (SSN), and current mailing address.

Record access procedures:

Individuals seeking access to information about themselves contained in this system of records should address written inquiries to AF/A1DL, 1040 Air Force Pentagon, Washington, DC 20330-1040.

Request must contain full name, Social Security Number (SSN), and current mailing address.

Contesting record procedures:

The Air Force rules for accessing records, for contesting contents and appealing initial agency determinations are published in Air Force Instruction 37-132; 32 CFR part 806b; or may be obtained from the system manager.

Record source categories:

Data gathered from the individual, data gathered from other personnel records, transcripts and/or evaluations from schools and test results from testing agencies. Education, training and personnel information is obtained from approved automated system interfaces.

Exemptions claimed for the system:

None.

[FR Doc. 2010-9999 Filed 4-28-10; 8:45 am]

BILLING CODE 5001-05-P